DEPARTMENT OF THE INTERIOR

Bureau of Land Management

[LLCON01000.L14400000.EU0000.20X]

Notice of Realty Action: Segregation of Public Land for Proposed Non-Competitive (Direct) Sale in Moffat County, CO

AGENCY: Bureau of Land Management, Interior.

ACTION: Notice of realty action.

SUMMARY: The Bureau of Land Management (BLM) is proposing a non-competitive (direct) sale of 2.13 acres of public land in Moffat County to the Moffat County Board of County Commissioners to resolve an inadvertent, unauthorized use of public lands. The sale will be subject to the applicable provisions of the Federal Land Policy and Management Act of 1976 (FLMPA), as amended, and BLM land sale regulations. The sale will be for no less than the appraised fair market value (FMV).

DATES: Interested parties must submit written comments no later than October 29, 2020.

ADDRESSES: Mail written comments to Bruce Sillitoe, Field Manager, BLM Little Snake River Field Office, 455 Emerson Street, Craig, CO 81625.

FOR FURTHER INFORMATION CONTACT: Janell Corey, Realty Specialist, BLM Little Snake Field Office, at the previous address, or by telephone at 970-826-5053, or by email at jcorey@blm.gov. Persons who use a telecommunications device for the deaf (TDD) may call the Federal Relay Service (FRS) at 1-800-877-8339 to contact Ms. Corey during normal business hours. The FRS is available 24 hours a day, 7 days a week, to leave a message or questions. You will receive a reply during normal business hours.

SUPPLEMENTARY INFORMATION: The Moffat County Board of County Commissioners formally requested to purchase the subject parcel to resolve its inadvertent, unauthorized use.

The following described public lands in Moffat County are segregated from all forms of appropriation under public laws, including the mining laws, upon publication of this notice:

Sixth Principal Meridian, Colorado

T. 9 N., R. 102 W.,

sec. 2, lot 36;

sec. 3, lot 24.

The area described contains 2.13 acres.

The BLM is no longer accepting applications affecting the subject parcel, except those to amend previously filed right-of-way applications or the existing authorization to increase grant terms in accordance with 43 CFR 2807.15 and 2886.15.

During the segregation period, the BLM will conduct a parcel-specific environmental analysis and review in accordance with the Secretarial Order 3373—Evaluating Public Access in Bureau of Land Management Public Land Disposals and Exchanges, to determine any adverse effects before offering the subject parcel for sale.

The segregation will terminate upon issuance of a patent, publication in the Federal Register for termination of the segregation, or September 14, 2022, unless extended prior to the termination date by the BLM Colorado State Director in accordance with 43 CFR 2711.1-2(d).

The proposed sale is in conformance with the BLM Little Snake Resource Management Plan (RMP), approved in October 2011, on page RMP-52 and Management Action: Allowable Uses and Actions. The Authorized Officer has determined this sale to be in the best interest of the public in accordance with the provisions of the RMP.

Existing historical structures make the subject parcel difficult for the BLM to manage. Under FLPMA Section 203, disposal of the subject parcel is allowed because existing characteristics are difficult and uneconomic to manage and the parcel is not suitable for management by another Federal department or agency.

In accordance with 43 CFR 2710-0-6 and 43 CFR 2711.3-3(a), “Direct sales (without competition) may be utilized, when in the opinion of the authorized officer, a competitive sale is not appropriate and the public interest would best be served by a direct sale.” In this case, a direct sale is appropriate because the subject parcel contains previously and inadvertently built, unauthorized historical structures significant to the history of public schools in Moffat County. The county intends to use the property for public education and to enhance tourism in the area.

The BLM considered the minimal acreage to create a manageable boundary to include lands needed to protect existing improvements and to resolve the inadvertent, unauthorized use. The BLM may serve the public's interest through resolution and receiving payment at FMV for the subject parcel.

If issued, the conveyance document will be subject to valid existing rights and encumbrances of record, including, but not limited to, rights-of-way for roads and public utilities, and reservations for ditches and canals and all mineral deposits.

In addition to this Notice of Realty Action, a sale notice will be published once a week for 3 weeks in the Craig Daily Press. Only written comments submitted by mail will be considered as properly filed. Electronic mail, facsimile, or verbal comments will not be considered.

Before including your address, phone number, email address, or other personal identifying information (PII) in your comment, you should be aware that your comment, including your PII, may be made publicly available at any time. While you may ask us in your comment to withhold your PII from public review, the BLM cannot guarantee that it will be able to do so.

Any adverse comments will be reviewed by the BLM Colorado State Director or other authorized official of the Department of the Interior, who may sustain, vacate, or modify this realty action in whole or in part. In the absence of timely filed objections, this realty action will become the final determination of the Department of the Interior.

(Authority: 43 CFR 2091.2-1(b))

Jamie E. Connell,
Colorado State Director.

[FR Doc. 2020-20114 Filed 9-11-20; 8:45 am]

BILLING CODE 4310-HC-P